FEDERAL COMMUNICATIONS COMMISSION

47 CFR Part 15

[ET Docket Nos. 11-90 and 10-28; Report No. 2965]

Petition for Reconsideration of Action in Rulemaking Proceeding

AGENCY: Federal Communications Commission.

ACTION: Petition for reconsideration.

SUMMARY: In this document, Petitions for Reconsideration (Petitions) have been filed in the Commission's rulemaking proceeding by Dennis Farrell, International Sales Manager of Navtech Radar Ltd., on behalf of Navtech Radar Ltd. and Bruce A. Olcott, for Squire Sanders LLP, on behalf of Honeywell International, Inc.

DATES: Oppositions to these Petitions must be filed on or before December 3, 2012. Replies to an opposition must be filed on or before December 11, 2012.

ADDRESSES: Federal Communications Commission, 445 12th Street SW., Washington, DC 20554.

FOR FURTHER INFORMATION CONTACT: Aamer Zain, Policy and Rules Division, Office of Engineering and Technology, (202) 418-2473, email aamer.zain@fcc.gov.

SUPPLEMENTARY INFORMATION: This is a summary of Commission's document, Report No. 2965, released October 31, 2012. The full text of Report No. 2965 is available for viewing and copying in Room CY-B402, 445 12th Street SW., Washington, DC or may be purchased from the Commission's copy contractor, Best Copy and Printing, Inc. (BCPI) (1-800-378-3160). The Commission will not send a copy of this Notice pursuant to the Congressional Review Act, 5 U.S.C. 801(a)(1)(A), because this Notice does not have an impact on any rules of particular applicability.

Subject: Amendment of Sections 15.35 and 15.253 of the Commission's Rules Regarding Operation of Radar Systems in the 76-77 GHz Band; Amendment of Section 15.253 of the Commission's Rules to Permit Fixed Use of Radar in the 76-77 GHz Band (ET Docket Nos. 11-90 and 10-28), published at 77 FR 48097, August 13, 2012, in ET Docket Nos. 11-90 and 10-28, and published pursuant to 47 CFR 1.429(e) of the Commission's rules. See also 47 CFR 1.4(b)(1) of the Commission's rules.

Number of Petitions Filed: 2.

Federal Communications Commission.
Marlene H. Dortch,
Secretary, Office of the Secretary, Office of Managing Director.

[FR Doc. 2012-27797 Filed 11-15-12; 8:45 am]

BILLING CODE 6712-01-P